DEPARTMENT OF ENERGY

Federal Energy Regulatory Commission

[Docket Nos. AD06-2-000; ER06-406-000; ER02-2330-040; ER03-345-006; ER01-3001-014]

Supplemental Notice of Technical Conference; Assessment of Demand Response Resources; PJM Interconnection, L.L.C.; ISO New England Inc.; ISO New England Inc.; New York Independent Transmission System Operator, Inc.

January 20, 2006.

This supplemental notice provides additional information for a technical conference to be held on Wednesday, January 25, 2006, at 9 a.m. (EST),¹ on demand response and advanced metering regarding issues raised by the Energy Policy Act of 2005 (EPAct 2005) section 1252(e)(3).² This notice includes additional dockets numbers because those filings all contain issues associated with demand response and those issues may be discussed within presentations. The technical conference will be held in the Commission Meeting Room at the Federal Energy Regulatory Commission, 888 First Street, NE., Washington, DC 20426. The conference will be open for the public to attend and advance registration is not required. This will be a staff conference, but Commissioners may attend.

¹ The initial notice setting the date of this technical conference was issued on December 12, 2005. 70 FR 74,804 (2005). An additional notice setting forth the agenda and procedures for the technical conference was issued on January 13, 2006.

² Energy Policy Act of 2005, Public Law No. 109-58, § 1252(e)(3), 119 Stat. 594 (2005).

The conference will be transcribed. A transcript of the conference will be immediately available from Ace Reporting Company (202) 347-3700 or (800) 336-6646 for a fee. It will be available to the public on the Commission's eLibrary system seven calendar days after the Commission receives the transcript.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact:

David Kathan (Technical Information), Office of Markets, Tariffs and Rates, Federal Energy Regulatory Commission, 888 First Street, NE., Washington, DC 20426. (202) 502-6404. David.Kathan@ferc.gov.

Aileen Roder (Legal Information), Office of the General Counsel, Federal Energy Regulatory Commission, 888 First Street, NE., Washington, DC 20426. (202) 502-6022. Aileen.Roder@ferc.gov.

Magalie R. Salas,
Secretary.

[FR Doc. E6-987 Filed 1-25-06; 8:45 am]

BILLING CODE 6717-01-P